ENVIRONMENTAL PROTECTION AGENCY

40 CFR Part 261

[EPA-R06-RCRA-2009-0312; SW FRL-9231-3]

Hazardous Waste Management System; Identification and Listing of Hazardous Waste; Removal of Direct Final Exclusion

AGENCY: Environmental Protection Agency (EPA).

ACTION: Removal of Direct Final Exclusion.

SUMMARY: Because EPA received adverse comment, we are removing the direct final exclusion for Eastman Chemical Company—Texas Operations, published on September 24, 2010.

DATES: Effective November 30, 2010.

FOR FURTHER INFORMATION CONTACT: Michelle Peace, Environmental Protection Agency, Multimedia Planning and Permitting Division, RCRA Branch, Mail Code: 6PD-C, 1445 Ross Avenue, Dallas, TX 75202, by calling (214) 665-7430 or by e-mail at peace.michelle@epa.gov.

SUPPLEMENTARY INFORMATION: Because EPA received adverse comment, we are removing the direct final exclusion for Eastman Chemical Company—Texas Operations, published on September 24, 2010, 75 FR 58315. We stated in that direct final rule that if we received adverse comment by October 25, 2010, the direct final rule would not take effect and we would publish a timely removal in the Federal Register. We subsequently received adverse comment on that direct final rule. We will address the comments submitted in a subsequent final action which will be based on the parallel proposed rule also published on September 24, 2010, 75 FR 58346. As stated in the direct final rule and the parallel proposed rule, we will not institute a second comment period on this action.

Lists of Subjects in 40 CFR Part 261

Environmental Protection, Hazardous waste, Recycling, Reporting and recordkeeping requirements.

Authority: Sec. 3001(f) RCRA, 42 U.S.C. 6921(f).

Dated: November 16, 2010.
Bill Luthans,
Acting Director, Multimedia Planning and Permitting Division.

40 CFR part 261 is amended as follows:

PART 261—IDENTIFICATION AND LISTING OF HAZARDOUS WASTE

1. The authority citation for part 261 continues to read as follows:

Authority: 42 U.S.C. 6905, 6912(a), 6921, 6922, and 6938.

2. In Tables 1, 2 and 3 of Appendix IX of part 261 remove the following facility's waste streams: for Facility: Eastman Chemical Company—Texas Operations, Address: Longview, TX; Waste Description: RKI bottom ash, RKI fly ash and RKI scrubber water blowdown.

[FR Doc. 2010-30109 Filed 11-29-10; 8:45 am]

BILLING CODE 6560-50-P